DEPARTMENT OF HOUSING AND URBAN DEVELOPMENT

[Docket No. FR-6477-N-01]

Notice of Annual Factors for Determining Administrative Fees for the Section 8 Housing Choice Voucher, Mainstream, and Moderate Rehabilitation Programs

AGENCY: Office of the Assistant Secretary for Public and Indian Housing, HUD.

ACTION: Notice.

SUMMARY: This notice announces the monthly per unit fee rates for use in determining the on-going administrative fees for public housing agencies (PHAs) administering the Housing Choice Voucher (HCV), Mainstream, Emergency Housing Voucher, and Moderate Rehabilitation (including the Single Room Occupancy program for homeless individuals) programs during calendar year (CY) 2024. PHAs use administrative fees to cover costs associated with administering these programs. Publishing the CY 2024 administrative fees allow PHAs to budget appropriately and is important for PHA record keeping purposes.

DATES: Applicable January 1, 2024.

FOR FURTHER INFORMATION CONTACT: Miguel A. Fontánez, Director, Housing Voucher Financial Management Division, Office of Public Housing and Voucher Programs, Office of Public and Indian Housing, Department of Housing and Urban Development, 451 Seventh Street SW, Room 4222, Washington, DC 20410-8000, telephone number 202-402-2934 (this is not a toll-free number). HUD welcomes and is prepared to receive calls from individuals who are deaf or hard of hearing, as well as individuals with speech or communication disabilities. To learn more about how to make an accessible telephone call, please visit https://www.fcc.gov/consumers/guides/telecommunications-relay-service-trs.

SUPPLEMENTARY INFORMATION:

A. Background

This notice provides HUD's methodology used to determine the CY 2024 administrative fee rates by area, which HUD uses to determine PHA administrative fees for the HCV, Mainstream Vouchers, Emergency Housing Voucher (column A rate only), and Moderate Rehabilitation programs, including the Single Room Occupancy (SRO) program for homeless individuals. The HCV Program is the Federal government's major program for assisting very low-income families, persons who are elderly, or persons with disabilities to afford decent, safe, and sanitary housing in the private market. Mainstream Vouchers are tenant-based vouchers under section 8(o) of the U.S. Housing Act of 1937, serving households that include a non-elderly person with a disability. The Emergency Housing Voucher (EHV) program was authorized by the American Rescue Plan Act (ARPA) Public Law 117-2, enacted on March 11, 2021. Through EHV, HUD is providing 68,512 housing choice vouchers to local PHAs to assist individuals and families who are homeless, at-risk of homelessness, fleeing, or attempting to flee domestic violence, dating violence, sexual assault, stalking, or human trafficking, or were recently homeless or have a high risk of housing instability. The Moderate Rehabilitation Program provides project-based rental assistance for low-income families and the SRO program provides project-based rental assistance for individuals experiencing homelessness. Both programs have been repealed and no new projects are authorized for development. Assistance is limited to properties previously rehabilitated, with assistance being provided pursuant to a housing assistance payments (HAP) contract between an owner and a PHA.

B. CY 2024 Methodology

For CY 2024, administrative fees are determined based on vouchers leased as of the first day of each month and in accordance with the requirements of the 2024 Appropriations Act (Pub. L. 118-42). This data is extracted from the Voucher Management System (VMS) at the close of each reporting cycle and validated prior to use. For Moderate Rehabilitation, including Single Room Occupancy and HAP contracts, administrative fee eligibility is based on the units under a HAP contract. Administrative fee advances made prior to the 2024 fee rate availability are made whole on a retroactive basis per the information provided in the CY 2024 Administrative Fee Rate Description document available through the following link: https://www.hud.gov/program_offices/public_indian_housing/programs/hcv/guidance_and_notices.

In the included table, two fee rates are provided for each PHA. The first rate, Column A, applies to the first 7,200 voucher unit months leased in CY 2024. The second rate, Column B, applies to all remaining voucher unit months leased in CY 2024. However, in the case of EHVs, PHAs are allocated the full Column A administrative fee amount for each EHV that is under HAP contract as of the first day of each month in accordance with PIH Notice 2021-15, Emergency Housing Vouchers—Operating Requirements, issued on May 5, 2021. The funding for EHVs, including administrative fee funding, was appropriated through the ARPA, separate and apart from the regular HCV program appropriations provided through HUD's annual appropriations acts. Eligibility for EHVs is limited to the vulnerable populations described earlier, and EHVs may not be reissued after September 30, 2023.

In some cases, the fee rates calculated for CY 2024 are lower than those established for CY 2023. In these cases, the affected PHAs are held harmless at the CY 2023 fee rates.

The fee rates for each PHA generally cover the fees for areas in which the PHA has the greatest proportion of its participants, based on Public Housing Information Center (PIC), or superseding system, data submitted by the PHA. In some cases, PHAs have participants in more than one fee area. If such a PHA chooses, the PHA may request HUD establish a blended fee rate to proportionately consider all areas in which participants are located. Once a blended rate is established, it is used to determine the PHA's fee eligibility for all months in CY 2024. The Implementation of the Federal Fiscal Year (FFY) 2024 Funding Provisions for the Housing Choice Voucher Program describes how to apply for blended fee rates and provides a deadline date for submitting such requests. PIH Notice 2024-16 can be accessed through the following link: https://www.hud.gov/program_offices/public_indian_housing/programs/hcv/notices.

PHAs operating over large geographic areas, defined as multiple counties, may request a higher administrative fee rate if eligible. The Implementation of the Federal Fiscal Year (FFY) 2024 Funding Provisions for the Housing Choice Voucher Program describes when to apply for higher fee rates and the deadline date for such requests. Higher administrative fee rates differ from blended administrative fee rates in how they are calculated. Requests for higher administrative rates must clearly demonstrate that the PHA's published rate cannot cover their projected expenses. Next, a breakeven rate is calculated to ensure the PHA receives sufficient funds to cover their expenses while also ensuring the administrative fee reserves do not grow.

This notice identifies the monthly per-voucher-unit fee rates to be used to determine PHA administrative fee eligibility. The current fee rates remain accessible through the following link: https://www.hud.gov/program_offices/public_indian_housing/programs/hcv/guidance_and_notices, under the Notices and Guidance for PHAs section.

Direct questions to the PHA's assigned representative at the Financial Management Center or the Financial Management Division at PIHFinancialManagementDivision@hud.gov.

C. Moving To Work (MTW) Agencies

In cases where an MTW Agency has an alternative formula for determining HCV Administrative Fees in Attachment A of their MTW Agreements, HUD calculates the HCV Administrative Fees in accordance with that MTW Agreement provision.

Dominique Blom,
General Deputy Assistant Secretary Public and Indian Housing.

PHA No. | A Rate | B Rate
AK901 | $120.31 | $112.30
AL001 | 81.89 | 76.43
AL002 | 83.18 | 77.65
AL004 | 80.81 | 75.43
AL005 | 87.13 | 81.33
AL006 | 80.81 | 75.43
AL007 | 80.81 | 75.43
AL008 | 80.01 | 74.67
AL011 | 80.01 | 74.67
AL012 | 81.08 | 75.67
AL014 | 80.01 | 74.67
AL047 | 83.21 | 77.67
AL048 | 80.81 | 75.43
AL049 | 80.81 | 75.43
AL050 | 80.81 | 75.43
AL052 | 80.01 | 74.67
AL053 | 80.01 | 74.67
AL054 | 80.81 | 75.43
AL060 | 80.01 | 74.67
AL061 | 80.81 | 75.43
AL063 | 81.89 | 76.43
AL068 | 80.81 | 75.43
AL069 | 81.89 | 76.43
AL072 | 81.89 | 76.43
AL073 | 80.21 | 74.85
AL075 | 80.01 | 74.67
AL077 | 80.81 | 75.43
AL086 | 81.89 | 76.43
AL090 | 80.01 | 74.67
AL091 | 80.01 | 74.67
AL099 | 80.01 | 74.67
AL105 | 80.01 | 74.67
AL107 | 80.01 | 74.67
AL112 | 80.01 | 74.67
AL114 | 80.01 | 74.67
AL115 | 80.01 | 74.67
AL116 | 80.01 | 74.67
AL118 | 80.01 | 74.67
AL121 | 80.01 | 74.67
AL124 | 80.21 | 74.85
AL125 | 81.89 | 76.43
AL129 | 81.08 | 75.67
AL131 | 80.81 | 75.43
AL138 | 80.81 | 75.43
AL139 | 80.81 | 75.43
AL152 | 80.81 | 75.43
AL154 | 80.01 | 74.67
AL155 | 80.01 | 74.67
AL160 | 80.01 | 74.67
AL165 | 84.39 | 78.77
AL169 | 83.18 | 77.65
AL171 | 80.01 | 74.67
AL172 | 80.81 | 75.43
AL174 | 80.01 | 74.67
AL177 | 80.01 | 74.67
AL181 | 80.01 | 74.67
AL192 | 80.01 | 74.67
AL202 | 83.18 | 77.65
AR002 | 82.74 | 77.24
AR003 | 78.72 | 73.47
AR004 | 82.74 | 77.24
AR006 | 82.74 | 77.24
AR010 | 74.65 | 69.68
AR012 | 74.65 | 69.68
AR015 | 77.37 | 72.21
AR016 | 74.65 | 69.68
AR017 | 75.84 | 70.79
AR020 | 74.65 | 69.68
AR024 | 80.99 | 75.59
AR031 | 75.84 | 70.79
AR033 | 74.65 | 69.68
AR034 | 75.84 | 70.79
AR035 | 74.65 | 69.68
AR037 | 74.65 | 69.68
AR039 | 74.65 | 69.68
AR041 | 82.74 | 77.24
AR042 | 75.84 | 70.79
AR045 | 74.65 | 69.68
AR052 | 74.65 | 69.68
AR066 | 74.65 | 69.68
AR068 | 74.65 | 69.68
AR082 | 74.65 | 69.68
AR104 | 75.84 | 70.79
AR117 | 74.65 | 69.68
AR121 | 74.65 | 69.68
AR131 | 75.84 | 70.79
AR152 | 74.65 | 69.68
AR161 | 74.65 | 69.68
AR163 | 75.84 | 70.79
AR166 | 74.65 | 69.68
AR170 | 82.74 | 77.24
AR175 | 82.74 | 77.24
AR176 | 74.65 | 69.68
AR177 | 74.65 | 69.68
AR181 | 75.84 | 70.79
AR194 | 78.72 | 73.47
AR197 | 74.65 | 69.68
AR200 | 74.65 | 69.68
AR210 | 74.65 | 69.68
AR211 | 74.65 | 69.68
AR213 | 74.65 | 69.68
AR214 | 74.65 | 69.68
AR215 | 74.65 | 69.68
AR223 | 74.65 | 69.68
AR224 | 74.65 | 69.68
AR225 | 74.65 | 69.68
AR232 | 75.84 | 70.79
AR240 | 74.65 | 69.68
AR241 | 76.27 | 71.18
AR247 | 74.65 | 69.68
AR252 | 82.74 | 77.24
AR257 | 74.65 | 69.68
AR264 | 80.99 | 75.59
AR265 | 74.65 | 69.68
AR266 | 74.65 | 69.68
AZ001 | 91.49 | 85.38
AZ003 | 91.49 | 85.38
AZ004 | 90.45 | 84.41
AZ005 | 91.49 | 85.38
AZ006 | 100.03 | 93.37
AZ008 | 70.29 | 65.61
AZ009 | 91.49 | 85.38
AZ010 | 91.49 | 85.38
AZ013 | 101.65 | 94.87
AZ023 | 74.07 | 69.13
AZ025 | 90.45 | 84.41
AZ028 | 91.49 | 85.38
AZ031 | 91.49 | 85.38
AZ032 | 91.49 | 85.38
AZ033 | 90.45 | 84.41
AZ034 | 75.17 | 70.16
AZ035 | 101.65 | 94.87
AZ041 | 100.03 | 93.37
AZ043 | 122.50 | 114.34
AZ045 | 72.84 | 67.98
AZ880 | 91.49 | 85.38
AZ901 | 100.03 | 93.37
CA001 | 154.28 | 144.00
CA002 | 154.28 | 144.00
CA003 | 154.28 | 144.00
CA004 | 154.28 | 144.00
CA005 | 117.17 | 109.35
CA006 | 107.50 | 100.32
CA007 | 117.17 | 109.35
CA008 | 117.57 | 109.73
CA011 | 154.28 | 144.00
CA014 | 154.28 | 144.00
CA019 | 123.08 | 114.88
CA021 | 150.65 | 140.58
CA022 | 123.08 | 114.88
CA023 | 101.01 | 94.29
CA024 | 112.42 | 104.94
CA026 | 113.21 | 105.65
CA027 | 123.08 | 114.88
CA028 | 107.50 | 100.32
CA030 | 100.25 | 93.58
CA031 | 154.28 | 144.00
CA032 | 154.28 | 144.00
CA033 | 132.92 | 124.04
CA035 | 154.28 | 144.00
CA039 | 111.86 | 104.41
CA041 | 133.93 | 125.00
CA043 | 103.32 | 96.42
CA044 | 117.17 | 109.35
CA048 | 88.65 | 82.74
CA052 | 154.28 | 144.00
CA053 | 97.02 | 90.56
CA055 | 133.93 | 125.00
CA056 | 154.28 | 144.00
CA058 | 154.28 | 144.00
CA059 | 154.28 | 144.00
CA060 | 154.28 | 144.00
CA061 | 105.52 | 98.49
CA062 | 154.28 | 144.00
CA063 | 137.94 | 128.73
CA064 | 133.55 | 124.65
CA065 | 133.93 | 125.00
CA066 | 133.93 | 125.00
CA067 | 154.28 | 144.00
CA068 | 154.28 | 144.00
CA069 | 107.50 | 100.32
CA070 | 96.57 | 90.14
CA071 | 154.28 | 144.00
CA072 | 154.28 | 144.00
CA073 | 133.93 | 125.00
CA074 | 154.28 | 144.00
CA075 | 154.28 | 144.00
CA076 | 150.65 | 140.58
CA077 | 137.94 | 128.73
CA079 | 154.28 | 144.00
CA082 | 154.28 | 144.00
CA084 | 113.73 | 106.14
CA085 | 150.47 | 140.45
CA086 | 108.71 | 101.45
CA088 | 150.47 | 140.45
CA092 | 154.28 | 144.00
CA093 | 154.28 | 144.00
CA094 | 154.28 | 144.00
CA096 | 107.50 | 100.32
CA102 | 154.28 | 144.00
CA103 | 154.28 | 144.00
CA104 | 154.28 | 144.00
CA105 | 154.28 | 144.00
CA106 | 107.50 | 100.32
CA108 | 137.94 | 128.73
CA110 | 154.28 | 144.00
CA111 | 154.28 | 144.00
CA114 | 154.28 | 144.00
CA116 | 137.94 | 128.73
CA117 | 154.28 | 144.00
CA118 | 154.28 | 144.00
CA119 | 154.28 | 144.00
CA120 | 154.28 | 144.00
CA121 | 154.28 | 144.00
CA123 | 154.28 | 144.00
CA125 | 133.93 | 125.00
CA126 | 154.28 | 144.00
CA128 | 117.17 | 109.35
CA131 | 133.93 | 125.00
CA132 | 137.94 | 128.73
CA136 | 154.28 | 144.00
CA143 | 111.86 | 104.41
CA144 | 105.52 | 98.49
CA149 | 117.17 | 109.35
CA151 | 117.17 | 109.35
CA155 | 137.94 | 128.73
CO001 | 94.39 | 88.10
CO002 | 87.19 | 81.37
CO005 | 99.36 | 92.74
CO006 | 85.05 | 79.38
CO016 | 107.11 | 99.96
CO019 | 94.39 | 88.10
CO024 | 85.05 | 79.38
CO028 | 88.06 | 82.19
CO031 | 85.05 | 79.38
CO034 | 101.50 | 94.74
CO035 | 87.52 | 81.70
CO036 | 94.39 | 88.10
CO040 | 131.34 | 122.60
CO041 | 101.50 | 94.74
CO043 | 99.36 | 92.74
CO045 | 85.05 | 79.38
CO048 | 94.39 | 88.10
CO049 | 94.39 | 88.10
CO050 | 94.39 | 88.10
CO051 | 110.42 | 103.06
CO052 | 94.39 | 88.10
CO057 | 94.39 | 88.10
CO058 | 94.39 | 88.10
CO061 | 107.11 | 99.96
CO070 | 107.11 | 99.96
CO071 | 88.06 | 82.19
CO072 | 94.39 | 88.10
CO079 | 99.36 | 92.74
CO087 | 131.34 | 122.60
CO090 | 87.52 | 81.70
CO095 | 125.59 | 117.22
CO101 | 85.05 | 79.38
CO103 | 101.50 | 94.74
CO888 | 87.19 | 81.37
CO911 | 94.39 | 88.10
CO921 | 94.39 | 88.10
CT001 | 116.05 | 108.32
CT002 | 124.40 | 116.11
CT003 | 109.39 | 102.08
CT004 | 120.57 | 112.54
CT005 | 109.39 | 102.08
CT006 | 98.80 | 92.21
CT007 | 124.40 | 116.11
CT008 | 109.39 | 102.08
CT009 | 109.39 | 102.08
CT010 | 98.80 | 92.21
CT011 | 120.57 | 112.54
CT013 | 109.39 | 102.08
CT015 | 116.05 | 108.32
CT017 | 116.05 | 108.32
CT018 | 107.38 | 100.22
CT019 | 124.40 | 116.11
CT020 | 124.40 | 116.11
CT023 | 109.39 | 102.08
CT024 | 98.80 | 92.21
CT026 | 109.39 | 102.08
CT027 | 116.05 | 108.32
CT028 | 109.39 | 102.08
CT029 | 120.57 | 112.54
CT030 | 116.05 | 108.32
CT031 | 94.85 | 88.53
CT032 | 109.39 | 102.08
CT033 | 109.39 | 102.08
CT036 | 109.39 | 102.08
CT038 | 109.39 | 102.08
CT039 | 109.39 | 102.08
CT040 | 109.39 | 102.08
CT041 | 109.39 | 102.08
CT042 | 120.57 | 112.54
CT047 | 98.80 | 92.21
CT048 | 109.39 | 102.08
CT049 | 109.39 | 102.08
CT051 | 109.39 | 102.08
CT052 | 116.05 | 108.32
CT053 | 109.39 | 102.08
CT058 | 98.80 | 92.21
CT061 | 98.80 | 92.21
CT063 | 120.57 | 112.54
CT067 | 120.57 | 112.54
CT068 | 109.39 | 102.08
CT901 | 109.39 | 102.08
DC001 | 139.43 | 130.14
DC880 | 139.43 | 130.14
DE001 | 108.11 | 100.91
DE002 | 101.14 | 94.40
DE003 | 108.11 | 100.91
DE005 | 108.11 | 100.91
DE901 | 101.14 | 94.40
FL001 | 90.96 | 84.90
FL002 | 96.03 | 89.62
FL003 | 96.03 | 89.62
FL004 | 100.30 | 93.60
FL005 | 130.31 | 121.63
FL007 | 96.26 | 89.85
FL008 | 105.39 | 98.36
FL009 | 101.76 | 94.97
FL010 | 122.01 | 113.88
FL011 | 79.93 | 74.60
FL013 | 127.44 | 118.96
FL015 | 85.47 | 79.76
FL017 | 130.31 | 121.63
FL018 | 78.08 | 72.87
FL019 | 92.59 | 86.43
FL020 | 92.59 | 86.43
FL021 | 101.76 | 94.97
FL022 | 96.26 | 89.85
FL023 | 105.39 | 98.36
FL024 | 96.26 | 89.85
FL025 | 92.59 | 86.43
FL026 | 79.93 | 74.60
FL028 | 122.01 | 113.88
FL030 | 96.26 | 89.85
FL031 | 74.12 | 69.18
FL032 | 78.70 | 73.44
FL033 | 100.30 | 93.60
FL034 | 96.03 | 89.62
FL035 | 78.08 | 72.87
FL037 | 90.96 | 84.90
FL041 | 102.30 | 95.49
FL045 | 102.30 | 95.49
FL046 | 78.08 | 72.87
FL047 | 100.96 | 94.24
FL049 | 75.89 | 70.84
FL053 | 78.70 | 73.44
FL057 | 74.12 | 69.18
FL060 | 98.32 | 91.76
FL062 | 96.03 | 89.62
FL063 | 86.29 | 80.54
FL066 | 130.31 | 121.63
FL068 | 130.31 | 121.63
FL069 | 78.08 | 72.87
FL070 | 86.29 | 80.54
FL071 | 79.93 | 74.60
FL072 | 96.26 | 89.85
FL073 | 85.47 | 79.76
FL075 | 96.03 | 89.62
FL079 | 122.01 | 113.88
FL080 | 101.76 | 94.97
FL081 | 122.01 | 113.88
FL083 | 101.76 | 94.97
FL092 | 78.70 | 73.44
FL093 | 100.30 | 93.60
FL102 | 78.08 | 72.87
FL104 | 96.03 | 89.62
FL105 | 105.39 | 98.36
FL106 | 100.30 | 93.60
FL110 | 78.08 | 72.87
FL113 | 96.26 | 89.85
FL116 | 122.01 | 113.88
FL119 | 101.76 | 94.97
FL123 | 93.52 | 87.28
FL128 | 100.96 | 94.24
FL132 | 101.92 | 95.16
FL136 | 122.01 | 113.88
FL137 | 96.03 | 89.62
FL139 | 79.93 | 74.60
FL141 | 105.06 | 98.06
FL144 | 127.44 | 118.96
FL145 | 130.31 | 121.63
FL147 | 78.08 | 72.87
FL201 | 100.30 | 93.60
FL202 | 74.12 | 69.18
FL881 | 130.31 | 121.63
FL888 | 96.03 | 89.62
GA001 | 87.13 | 81.33
GA002 | 87.13 | 81.33
GA004 | 87.13 | 81.33
GA006 | 106.23 | 99.14
GA007 | 87.13 | 81.33
GA009 | 87.13 | 81.33
GA010 | 106.23 | 99.14
GA011 | 106.23 | 99.14
GA023 | 87.13 | 81.33
GA062 | 82.00 | 76.54
GA078 | 106.23 | 99.14
GA095 | 106.23 | 99.14
GA116 | 106.23 | 99.14
GA188 | 106.23 | 99.14
GA228 | 106.23 | 99.14
GA232 | 106.23 | 99.14
GA237 | 106.23 | 99.14
GA264 | 106.23 | 99.14
GA285 | 87.13 | 81.33
GA901 | 106.23 | 99.14
GQ901 | 140.70 | 131.33
HI002 | 129.47 | 120.84
HI003 | 144.71 | 135.07
HI004 | 144.72 | 135.09
HI005 | 145.82 | 136.11
HI901 | 144.71 | 135.07
IA002 | 78.20 | 72.98
IA004 | 82.22 | 76.73
IA015 | 78.20 | 72.98
IA018 | 83.17 | 77.63
IA020 | 93.05 | 86.86
IA022 | 94.84 | 88.53
IA023 | 82.76 | 77.25
IA024 | 90.08 | 84.08
IA030 | 78.20 | 72.98
IA038 | 90.44 | 84.41
IA042 | 78.20 | 72.98
IA045 | 88.53 | 82.63
IA047 | 78.20 | 72.98
IA049 | 78.20 | 72.98
IA050 | 90.44 | 84.41
IA057 | 78.20 | 72.98
IA084 | 78.20 | 72.98
IA087 | 83.37 | 77.81
IA098 | 82.39 | 76.90
IA100 | 78.20 | 72.98
IA107 | 78.20 | 72.98
IA108 | 78.20 | 72.98
IA113 | 90.44 | 84.41
IA114 | 78.20 | 72.98
IA117 | 82.76 | 77.25
IA119 | 78.20 | 72.98
IA120 | 93.05 | 86.86
IA122 | 78.20 | 72.98
IA124 | 78.20 | 72.98
IA125 | 78.20 | 72.98
IA126 | 88.53 | 82.63
IA127 | 78.20 | 72.98
IA128 | 78.20 | 72.98
IA129 | 78.20 | 72.98
IA130 | 78.20 | 72.98
IA131 | 93.05 | 86.86
IA132 | 90.44 | 84.41
ID005 | 85.22 | 79.54
ID013 | 105.90 | 98.84
ID016 | 105.90 | 98.84
ID021 | 105.90 | 98.84
ID901 | 88.22 | 82.32
IL002 | 117.21 | 109.39
IL003 | 92.55 | 86.38
IL004 | 84.35 | 78.71
IL006 | 82.60 | 77.10
IL009 | 88.53 | 82.63
IL010 | 88.53 | 82.63
IL011 | 74.96 | 69.96
IL012 | 79.81 | 74.49
IL014 | 87.81 | 81.96
IL015 | 79.18 | 73.89
IL016 | 73.41 | 68.51
IL018 | 88.53 | 82.63
IL020 | 88.53 | 82.63
IL022 | 84.17 | 78.56
IL024 | 117.21 | 109.39
IL025 | 117.21 | 109.39
IL026 | 117.21 | 109.39
IL028 | 73.41 | 68.51
IL030 | 79.18 | 73.89
IL032 | 87.81 | 81.96
IL035 | 87.81 | 81.96
IL037 | 73.41 | 68.51
IL038 | 73.41 | 68.51
IL039 | 79.97 | 74.65
IL040 | 73.41 | 68.51
IL043 | 73.41 | 68.51
IL050 | 74.96 | 69.96
IL051 | 82.31 | 76.84
IL052 | 73.41 | 68.51
IL053 | 74.96 | 69.96
IL056 | 117.21 | 109.39
IL057 | 73.41 | 68.51
IL059 | 73.41 | 68.51
IL061 | 74.27 | 69.31
IL074 | 79.18 | 73.89
IL076 | 73.41 | 68.51
IL079 | 73.41 | 68.51
IL082 | 73.41 | 68.51
IL083 | 84.17 | 78.56
IL084 | 79.45 | 74.16
IL085 | 74.94 | 69.95
IL086 | 77.86 | 72.67
IL087 | 74.96 | 69.96
IL088 | 73.41 | 68.51
IL089 | 92.89 | 86.70
IL090 | 117.21 | 109.39
IL091 | 73.41 | 68.51
IL092 | 117.21 | 109.39
IL095 | 86.10 | 80.36
IL096 | 73.41 | 68.51
IL101 | 117.21 | 109.39
IL103 | 117.21 | 109.39
IL104 | 92.55 | 86.38
IL107 | 117.21 | 109.39
IL116 | 117.21 | 109.39
IL117 | 82.31 | 76.84
IL120 | 73.41 | 68.51
IL122 | 84.17 | 78.56
IL123 | 73.41 | 68.51
IL124 | 92.55 | 86.38
IL126 | 74.96 | 69.96
IL130 | 117.21 | 109.39
IL131 | 88.53 | 82.63
IL136 | 117.21 | 109.39
IL137 | 118.22 | 110.33
IL901 | 117.21 | 109.39
IN002 | 64.12 | 59.84
IN003 | 71.97 | 67.19
IN004 | 67.04 | 62.57
IN005 | 67.04 | 62.57
IN006 | 79.57 | 74.27
IN007 | 70.01 | 65.35
IN009 | 64.12 | 59.84
IN010 | 87.87 | 82.02
IN011 | 87.87 | 82.02
IN012 | 73.18 | 68.30
IN015 | 70.84 | 66.12
IN016 | 69.56 | 64.93
IN017 | 79.57 | 74.27
IN018 | 64.12 | 59.84
IN019 | 69.40 | 64.77
IN020 | 70.84 | 66.12
IN021 | 67.04 | 62.57
IN022 | 71.32 | 66.58
IN023 | 73.18 | 68.30
IN025 | 73.18 | 68.30
IN026 | 69.55 | 64.91
IN029 | 87.87 | 82.02
IN031 | 64.12 | 59.84
IN032 | 65.27 | 60.92
IN035 | 67.04 | 62.57
IN037 | 69.56 | 64.93
IN041 | 64.12 | 59.84
IN047 | 64.12 | 59.84
IN048 | 65.16 | 60.82
IN050 | 64.12 | 59.84
IN055 | 65.27 | 60.92
IN056 | 67.11 | 62.64
IN058 | 72.62 | 67.79
IN060 | 64.12 | 59.84
IN062 | 68.83 | 64.26
IN067 | 64.12 | 59.84
IN071 | 76.86 | 71.72
IN078 | 67.11 | 62.64
IN079 | 79.57 | 74.27
IN080 | 79.57 | 74.27
IN086 | 64.12 | 59.84
IN091 | 64.12 | 59.84
IN092 | 64.12 | 59.84
IN100 | 70.84 | 66.12
IN901 | 79.57 | 74.27
KS001 | 76.98 | 71.84
KS002 | 73.52 | 68.63
KS004 | 79.21 | 73.92
KS006 | 69.34 | 64.72
KS017 | 69.34 | 64.72
KS038 | 69.34 | 64.72
KS041 | 69.34 | 64.72
KS043 | 76.98 | 71.84
KS053 | 81.25 | 75.83
KS062 | 69.34 | 64.72
KS063 | 69.80 | 65.15
KS068 | 76.98 | 71.84
KS073 | 79.21 | 73.92
KS091 | 69.34 | 64.72
KS149 | 69.34 | 64.72
KS159 | 69.34 | 64.72
KS161 | 69.34 | 64.72
KS162 | 76.98 | 71.84
KS165 | 69.34 | 64.72
KS166 | 69.34 | 64.72
KS167 | 69.80 | 65.15
KS168 | 73.52 | 68.63
KS170 | 69.34 | 64.72
KY001 | 73.18 | 68.30
KY003 | 64.64 | 60.33
KY004 | 81.05 | 75.65
KY007 | 63.46 | 59.23
KY008 | 63.46 | 59.23
KY009 | 73.18 | 68.30
KY011 | 82.04 | 76.57
KY012 | 69.56 | 64.93
KY015 | 84.07 | 78.45
KY017 | 63.46 | 59.23
KY021 | 63.46 | 59.23
KY022 | 63.46 | 59.23
KY026 | 63.46 | 59.23
KY027 | 63.46 | 59.23
KY035 | 63.46 | 59.23
KY040 | 63.46 | 59.23
KY047 | 63.46 | 59.23
KY053 | 63.46 | 57.96
KY056 | 63.46 | 59.23
KY061 | 81.05 | 75.65
KY071 | 70.54 | 65.84
KY086 | 63.46 | 59.23
KY107 | 63.46 | 59.23
KY121 | 63.46 | 59.23
KY132 | 70.28 | 65.59
KY133 | 84.07 | 78.45
KY135 | 84.07 | 78.45
KY136 | 84.07 | 78.45
KY137 | 63.46 | 59.23
KY138 | 63.46 | 59.23
KY140 | 81.05 | 75.65
KY141 | 63.46 | 59.23
KY142 | 72.27 | 67.46
KY157 | 63.46 | 59.23
KY160 | 63.46 | 59.23
KY161 | 72.27 | 67.46
KY163 | 63.46 | 59.23
KY169 | 63.46 | 59.23
KY171 | 73.18 | 68.30
KY901 | 81.05 | 75.65
LA001 | 85.73 | 80.00
LA002 | 83.92 | 78.33
LA003 | 92.56 | 86.39
LA004 | 81.85 | 76.39
LA005 | 81.85 | 76.39
LA006 | 81.85 | 76.39
LA009 | 92.56 | 86.39
LA012 | 85.73 | 80.00
LA023 | 81.85 | 76.39
LA024 | 81.85 | 76.39
LA029 | 81.85 | 76.39
LA031 | 81.85 | 76.39
LA032 | 81.85 | 76.39
LA033 | 81.85 | 76.39
LA036 | 81.85 | 76.39
LA037 | 88.09 | 82.23
LA046 | 81.85 | 76.39
LA057 | 81.85 | 76.39
LA063 | 81.85 | 76.39
LA067 | 81.85 | 76.39
LA074 | 81.85 | 76.39
LA086 | 81.85 | 76.39
LA094 | 85.73 | 80.00
LA097 | 81.85 | 76.39
LA101 | 92.56 | 86.39
LA103 | 85.73 | 80.00
LA104 | 81.85 | 76.39
LA111 | 81.85 | 76.39
LA114 | 81.85 | 76.39
LA115 | 81.85 | 76.39
LA120 | 81.85 | 76.39
LA122 | 81.85 | 76.39
LA125 | 81.85 | 76.39
LA128 | 81.85 | 76.39
LA129 | 81.85 | 76.39
LA132 | 81.85 | 76.39
LA159 | 81.85 | 76.39
LA163 | 81.85 | 76.39
LA165 | 81.85 | 76.39
LA166 | 81.85 | 76.39
LA169 | 81.85 | 76.39
LA171 | 81.85 | 76.39
LA172 | 81.85 | 76.39
LA173 | 81.85 | 76.39
LA174 | 81.85 | 76.39
LA178 | 81.85 | 76.39
LA181 | 85.73 | 80.00
LA182 | 81.85 | 76.39
LA184 | 83.92 | 78.33
LA186 | 81.85 | 76.39
LA187 | 85.73 | 80.00
LA188 | 81.85 | 76.39
LA189 | 81.85 | 76.39
LA190 | 83.92 | 78.33
LA192 | 81.85 | 76.39
LA194 | 82.08 | 76.62
LA195 | 81.85 | 76.39
LA196 | 81.85 | 76.39
LA199 | 92.56 | 86.39
LA202 | 92.56 | 86.39
LA204 | 92.56 | 86.39
LA205 | 92.56 | 86.39
LA206 | 81.85 | 76.39
LA207 | 81.85 | 76.39
LA211 | 82.08 | 76.62
LA212 | 81.85 | 76.39
LA213 | 88.09 | 82.23
LA214 | 81.85 | 76.39
LA215 | 81.85 | 76.39
LA220 | 81.85 | 76.39
LA222 | 81.85 | 76.39
LA229 | 81.85 | 76.39
LA230 | 83.92 | 78.33
LA232 | 81.85 | 76.39
LA233 | 81.85 | 76.39
LA238 | 85.73 | 80.00
LA241 | 81.85 | 76.39
LA242 | 81.85 | 76.39
LA246 | 81.85 | 76.39
LA247 | 81.85 | 76.39
LA248 | 81.85 | 76.39
LA253 | 82.08 | 76.62
LA257 | 81.85 | 76.39
LA258 | 81.85 | 76.39
LA266 | 81.85 | 76.39
LA270 | 85.73 | 80.00
LA888 | 83.92 | 78.33
LA889 | 85.73 | 80.00
LA903 | 85.73 | 80.00
MA001 | 141.00 | 131.61
MA002 | 152.40 | 142.23
MA003 | 152.40 | 142.23
MA005 | 141.00 | 131.61
MA006 | 140.42 | 131.07
MA007 | 141.00 | 131.61
MA008 | 141.00 | 131.61
MA010 | 141.00 | 131.61
MA012 | 141.00 | 131.61
MA013 | 152.40 | 142.23
MA014 | 152.40 | 142.23
MA015 | 152.40 | 142.23
MA016 | 152.40 | 142.23
MA017 | 152.40 | 142.23
MA018 | 140.42 | 131.07
MA019 | 152.40 | 142.23
MA020 | 152.40 | 142.23
MA022 | 152.40 | 142.23
MA023 | 152.40 | 142.23
MA024 | 141.00 | 131.61
MA025 | 152.40 | 142.23
MA026 | 141.00 | 131.61
MA027 | 152.40 | 142.23
MA028 | 152.40 | 142.23
MA029 | 141.00 | 131.61
MA031 | 152.40 | 142.23
MA032 | 152.40 | 142.23
MA033 | 152.40 | 142.23
MA034 | 141.00 | 131.61
MA035 | 141.00 | 131.61
MA036 | 152.40 | 142.23
MA037 | 141.00 | 131.61
MA039 | 141.00 | 131.61
MA040 | 152.40 | 142.23
MA041 | 141.00 | 131.61
MA042 | 152.40 | 142.23
MA043 | 141.00 | 131.61
MA044 | 152.40 | 142.23
MA045 | 152.40 | 142.23
MA046 | 152.75 | 142.58
MA047 | 152.75 | 142.58
MA048 | 152.40 | 142.23
MA050 | 141.00 | 131.61
MA051 | 141.00 | 131.61
MA053 | 152.40 | 142.23
MA054 | 152.40 | 142.23
MA055 | 152.40 | 142.23
MA056 | 152.40 | 142.23
MA057 | 152.40 | 142.23
MA059 | 152.40 | 142.23
MA060 | 141.00 | 131.61
MA061 | 152.40 | 142.23
MA063 | 152.40 | 142.23
MA065 | 152.40 | 142.23
MA066 | 141.00 | 131.61
MA067 | 152.40 | 142.23
MA069 | 152.40 | 142.23
MA070 | 152.40 | 142.23
MA072 | 152.40 | 142.23
MA073 | 152.40 | 142.23
MA074 | 152.40 | 142.23
MA075 | 152.40 | 142.23
MA076 | 141.00 | 131.61
MA077 | 141.00 | 131.61
MA078 | 141.00 | 131.61
MA079 | 152.40 | 142.23
MA080 | 141.00 | 131.61
MA081 | 141.00 | 131.61
MA082 | 141.00 | 131.61
MA084 | 141.00 | 131.61
MA085 | 141.00 | 131.61
MA086 | 141.00 | 131.61
MA087 | 141.00 | 131.61
MA088 | 141.00 | 131.61
MA089 | 152.40 | 142.23
MA091 | 152.40 | 142.23
MA092 | 152.40 | 142.23
MA093 | 152.40 | 142.23
MA094 | 140.42 | 131.07
MA095 | 152.75 | 142.58
MA096 | 140.42 | 131.07
MA098 | 152.40 | 142.23
MA099 | 152.40 | 142.23
MA100 | 141.00 | 131.61
MA101 | 152.40 | 142.23
MA105 | 141.00 | 131.61
MA106 | 141.00 | 131.61
MA107 | 141.00 | 131.61
MA108 | 141.00 | 131.61
MA109 | 152.40 | 142.23
MA110 | 152.75 | 142.58
MA111 | 152.40 | 142.23
MA112 | 152.40 | 142.23
MA116 | 152.40 | 142.23
MA117 | 152.40 | 142.23
MA118 | 152.40 | 142.23
MA119 | 152.40 | 142.23
MA121 | 152.40 | 142.23
MA122 | 152.40 | 142.23
MA123 | 141.00 | 131.61
MA125 | 152.40 | 142.23
MA127 | 141.00 | 131.61
MA133 | 152.40 | 142.23
MA134 | 152.40 | 142.23
MA135 | 152.40 | 142.23
MA138 | 152.75 | 142.58
MA139 | 141.00 | 131.61
MA140 | 152.40 | 142.23
MA147 | 152.40 | 142.23
MA154 | 152.40 | 142.23
MA155 | 152.40 | 142.23
MA165 | 152.40 | 142.23
MA170 | 152.40 | 142.23
MA172 | 141.00 | 131.61
MA174 | 152.40 | 142.23
MA181 | 152.75 | 142.58
MA188 | 141.00 | 131.61
MA880 | 152.40 | 142.23
MA881 | 152.40 | 142.23
MA882 | 141.00 | 131.61
MA883 | 152.40 | 142.23
MA901 | 152.40 | 142.23
MD001 | 102.50 | 95.66
MD002 | 102.50 | 95.66
MD003 | 139.43 | 130.14
MD004 | 139.43 | 130.14
MD006 | 80.41 | 75.04
MD007 | 139.43 | 130.14
MD014 | 92.12 | 85.98
MD015 | 139.43 | 130.14
MD018 | 102.50 | 95.66
MD019 | 93.51 | 87.26
MD021 | 116.27 | 108.52
MD022 | 139.43 | 130.14
MD023 | 102.50 | 95.66
MD024 | 139.43 | 130.14
MD025 | 102.50 | 95.66
MD027 | 102.50 | 95.66
MD028 | 80.41 | 75.04
MD029 | 108.11 | 100.91
MD032 | 102.50 | 95.66
MD033 | 102.50 | 95.66
MD034 | 102.50 | 95.66
MD901 | 139.43 | 130.14
ME001 | 80.08 | 74.74
ME002 | 80.08 | 74.74
ME003 | 125.29 | 116.94
ME004 | 80.08 | 74.74
ME005 | 89.66 | 83.67
ME006 | 95.80 | 89.40
ME007 | 89.66 | 83.67
ME008 | 84.20 | 78.57
ME009 | 91.00 | 84.95
ME011 | 110.22 | 102.87
ME015 | 125.29 | 116.94
ME018 | 91.00 | 84.95
ME019 | 100.42 | 93.70
ME020 | 125.29 | 116.94
ME021 | 91.00 | 84.95
ME025 | 80.08 | 74.74
ME027 | 82.21 | 76.74
ME028 | 110.22 | 102.87
ME030 | 84.20 | 78.57
ME901 | 125.29 | 116.94
MI001 | 78.48 | 73.25
MI005 | 78.48 | 73.25
MI006 | 67.11 | 62.63
MI008 | 78.48 | 73.25
MI009 | 67.55 | 63.04
MI010 | 68.41 | 63.85
MI019 | 65.75 | 61.37
MI020 | 65.75 | 61.37
MI027 | 78.48 | 73.25
MI030 | 65.75 | 61.37
MI031 | 74.08 | 69.14
MI032 | 68.41 | 63.85
MI035 | 70.73 | 66.02
MI036 | 65.75 | 61.37
MI037 | 78.48 | 73.25
MI038 | 67.82 | 63.31
MI039 | 78.48 | 73.25
MI040 | 78.48 | 73.25
MI044 | 78.48 | 73.25
MI045 | 78.48 | 73.25
MI047 | 65.75 | 61.37
MI048 | 78.48 | 73.25
MI049 | 65.75 | 61.37
MI050 | 65.75 | 61.37
MI051 | 78.48 | 73.25
MI052 | 78.48 | 73.25
MI055 | 78.48 | 73.25
MI058 | 75.24 | 70.23
MI059 | 78.48 | 73.25
MI060 | 70.52 | 65.81
MI061 | 70.97 | 66.24
MI063 | 65.75 | 61.37
MI064 | 93.51 | 87.27
MI066 | 74.08 | 69.14
MI070 | 70.52 | 65.81
MI073 | 74.08 | 69.14
MI074 | 70.97 | 66.24
MI080 | 72.98 | 68.13
MI084 | 70.52 | 65.81
MI087 | 70.52 | 65.81
MI089 | 78.48 | 73.25
MI093 | 74.08 | 69.14
MI094 | 65.75 | 61.37
MI096 | 78.48 | 73.25
MI097 | 78.48 | 73.25
MI100 | 78.48 | 73.25
MI112 | 65.75 | 61.37
MI115 | 74.08 | 69.14
MI117 | 65.94 | 61.54
MI119 | 65.75 | 61.37
MI120 | 68.41 | 63.85
MI121 | 70.97 | 66.24
MI132 | 65.75 | 61.37
MI139 | 78.48 | 73.25
MI157 | 78.48 | 73.25
MI167 | 75.24 | 70.23
MI168 | 75.24 | 70.23
MI186 | 65.94 | 61.54
MI194 | 75.24 | 70.23
MI198 | 74.08 | 69.14
MI880 | 75.24 | 70.23
MI901 | 78.48 | 73.25
MN001 | 109.06 | 101.79
MN002 | 109.06 | 101.79
MN003 | 80.67 | 75.29
MN007 | 80.67 | 75.29
MN008 | 74.97 | 69.97
MN009 | 74.97 | 69.97
MN018 | 74.97 | 69.97
MN021 | 88.65 | 82.74
MN032 | 74.97 | 69.97
MN034 | 74.97 | 69.97
MN037 | 77.42 | 72.26
MN038 | 83.09 | 77.55
MN049 | 74.97 | 69.97
MN063 | 81.01 | 75.61
MN073 | 80.67 | 75.29
MN077 | 81.79 | 76.35
MN085 | 74.97 | 69.97
MN090 | 74.97 | 69.97
MN101 | 109.06 | 101.79
MN107 | 74.97 | 69.97
MN128 | 74.97 | 69.97
MN144 | 109.06 | 101.79
MN147 | 109.06 | 101.79
MN151 | 90.29 | 84.29
MN152 | 109.06 | 101.79
MN153 | 74.97 | 69.97
MN154 | 74.97 | 69.97
MN158 | 88.65 | 82.74
MN161 | 78.66 | 73.40
MN163 | 109.06 | 101.79
MN164 | 88.65 | 82.74
MN166 | 74.97 | 69.97
MN167 | 81.01 | 75.61
MN168 | 78.66 | 73.40
MN169 | 74.97 | 69.97
MN170 | 109.06 | 101.79
MN171 | 76.79 | 71.66
MN172 | 83.09 | 77.55
MN173 | 74.97 | 69.97
MN174 | 74.97 | 69.97
MN176 | 74.97 | 69.97
MN177 | 74.97 | 69.97
MN178 | 78.66 | 73.40
MN179 | 74.97 | 69.97
MN180 | 74.97 | 69.97
MN182 | 74.97 | 69.97
MN184 | 109.06 | 101.79
MN188 | 74.97 | 69.97
MN190 | 74.97 | 69.97
MN191 | 74.97 | 69.97
MN192 | 74.97 | 69.97
MN193 | 84.24 | 78.64
MN197 | 76.02 | 70.95
MN200 | 74.97 | 69.97
MN203 | 78.66 | 73.40
MN212 | 109.06 | 101.79
MN216 | 109.06 | 101.79
MN219 | 81.01 | 75.61
MN220 | 81.79 | 76.35
MN801 | 109.06 | 101.79
MN802 | 109.06 | 101.79
MO001 | 79.18 | 73.89
MO002 | 76.98 | 71.84
MO003 | 76.54 | 71.44
MO004 | 79.18 | 73.89
MO006 | 79.18 | 73.89
MO007 | 76.54 | 71.44
MO008 | 76.54 | 71.44
MO009 | 76.54 | 71.44
MO010 | 76.54 | 71.44
MO014 | 76.54 | 71.44
MO016 | 76.54 | 71.44
MO017 | 76.98 | 71.84
MO030 | 76.98 | 71.84
MO037 | 76.54 | 71.44
MO040 | 76.54 | 71.44
MO053 | 76.98 | 71.84
MO058 | 76.54 | 71.44
MO064 | 76.54 | 71.44
MO065 | 76.54 | 71.44
MO072 | 76.54 | 71.44
MO074 | 76.54 | 71.44
MO107 | 76.54 | 71.44
MO129 | 76.54 | 71.44
MO133 | 76.54 | 71.44
MO145 | 76.54 | 71.44
MO149 | 76.54 | 71.44
MO188 | 76.54 | 71.44
MO190 | 76.54 | 71.44
MO193 | 76.98 | 71.84
MO196 | 76.98 | 71.84
MO197 | 76.98 | 71.84
MO198 | 76.54 | 71.44
MO199 | 79.18 | 73.89
MO200 | 76.54 | 71.44
MO203 | 76.54 | 71.44
MO204 | 76.98 | 71.84
MO205 | 79.18 | 73.89
MO206 | 76.54 | 71.44
MO207 | 76.54 | 71.44
MO209 | 76.54 | 71.44
MO210 | 76.98 | 71.84
MO212 | 76.54 | 71.44
MO213 | 76.98 | 71.84
MO215 | 76.54 | 71.44
MO216 | 76.54 | 71.44
MO217 | 76.54 | 71.44
MO227 | 79.18 | 73.89
MS004 | 74.53 | 69.56
MS005 | 79.99 | 74.66
MS006 | 74.53 | 69.56
MS016 | 80.99 | 75.59
MS019 | 74.53 | 69.56
MS030 | 74.53 | 69.56
MS040 | 79.99 | 74.66
MS057 | 74.53 | 69.56
MS058 | 94.40 | 88.09
MS095 | 74.53 | 69.56
MS103 | 94.40 | 88.09
MS107 | 74.53 | 69.56
MS128 | 74.53 | 69.56
MS301 | 79.99 | 74.66
MT001 | 102.50 | 95.67
MT002 | 90.75 | 84.71
MT003 | 87.75 | 81.89
MT004 | 102.03 | 95.22
MT006 | 82.66 | 77.16
MT015 | 89.56 | 83.57
MT033 | 92.27 | 86.10
MT036 | 89.56 | 83.57
MT901 | 90.75 | 84.71
NC001 | 83.24 | 77.69
NC002 | 99.45 | 92.81
NC003 | 91.20 | 85.11
NC004 | 80.03 | 74.69
NC006 | 86.14 | 80.41
NC007 | 83.24 | 77.69
NC008 | 91.20 | 85.11
NC009 | 84.61 | 78.96
NC011 | 86.14 | 80.41
NC012 | 86.14 | 80.41
NC013 | 99.45 | 92.81
NC014 | 80.03 | 74.69
NC015 | 83.24 | 77.69
NC018 | 80.03 | 74.69
NC019 | 83.24 | 77.69
NC020 | 80.03 | 74.69
NC021 | 99.45 | 92.81
NC022 | 83.24 | 77.69
NC025 | 80.03 | 74.69
NC032 | 80.03 | 74.69
NC035 | 80.78 | 75.39
NC039 | 81.95 | 76.49
NC050 | 82.89 | 77.36
NC056 | 87.70 | 81.87
NC057 | 91.20 | 85.11
NC059 | 86.14 | 80.41
NC065 | 91.20 | 85.11
NC070 | 86.76 | 80.96
NC071 | 81.95 | 76.49
NC072 | 86.39 | 80.64
NC075 | 80.03 | 74.69
NC077 | 80.03 | 74.69
NC081 | 86.14 | 80.41
NC087 | 83.24 | 77.69
NC089 | 80.03 | 74.69
NC098 | 83.24 | 77.69
NC102 | 86.76 | 80.96
NC104 | 99.45 | 92.81
NC118 | 80.03 | 74.69
NC120 | 99.45 | 92.81
NC134 | 86.76 | 80.96
NC137 | 83.24 | 77.69
NC138 | 80.03 | 74.69
NC139 | 80.03 | 74.69
NC140 | 83.24 | 77.69
NC141 | 80.03 | 74.69
NC144 | 83.24 | 77.69
NC145 | 80.03 | 74.69
NC146 | 80.03 | 74.69
NC147 | 83.24 | 77.69
NC149 | 80.03 | 74.69
NC150 | 80.03 | 74.69
NC151 | 80.11 | 74.77
NC152 | 83.24 | 77.69
NC155 | 80.03 | 74.69
NC159 | 87.70 | 81.87
NC160 | 80.03 | 74.69
NC161 | 80.03 | 74.69
NC163 | 84.13 | 78.52
NC164 | 99.45 | 92.81
NC165 | 80.03 | 74.69
NC166 | 86.14 | 80.41
NC167 | 81.52 | 76.09
NC173 | 83.24 | 77.69
NC175 | 83.24 | 77.69
NC901 | 80.03 | 74.69
ND001 | 88.65 | 82.74
ND002 | 88.65 | 82.74
ND003 | 88.65 | 82.74
ND009 | 88.65 | 82.74
ND010 | 88.65 | 82.74
ND011 | 88.65 | 82.74
ND012 | 88.65 | 82.74
ND013 | 88.65 | 82.74
ND014 | 88.65 | 82.74
ND015 | 88.65 | 82.74
ND016 | 88.65 | 82.74
ND017 | 88.65 | 82.74
ND019 | 88.65 | 82.74
ND021 | 88.65 | 82.74
ND022 | 88.65 | 82.74
ND025 | 88.65 | 82.74
ND026 | 88.65 | 82.74
ND030 | 88.65 | 82.74
ND031 | 88.65 | 82.74
ND035 | 88.65 | 82.74
ND036 | 88.65 | 82.74
ND037 | 88.65 | 82.74
ND038 | 88.65 | 82.74
ND039 | 88.65 | 82.74
ND044 | 88.65 | 82.74
ND049 | 88.65 | 82.74
ND052 | 88.65 | 82.74
ND054 | 88.65 | 82.74
ND055 | 88.65 | 82.74
ND070 | 88.65 | 82.74
ND901 | 88.65 | 82.74
NE001 | 82.76 | 77.25
NE002 | 82.76 | 77.25
NE003 | 82.76 | 77.25
NE004 | 82.25 | 76.77
NE010 | 82.25 | 76.77
NE041 | 82.25 | 76.77
NE078 | 82.25 | 76.77
NE083 | 82.25 | 76.77
NE094 | 82.25 | 76.77
NE100 | 82.25 | 76.77
NE104 | 82.25 | 76.77
NE114 | 82.25 | 76.77
NE120 | 82.25 | 76.77
NE123 | 82.25 | 76.77
NE141 | 82.25 | 76.77
NE150 | 82.25 | 76.77
NE153 | 82.76 | 77.25
NE157 | 82.25 | 76.77
NE174 | 82.76 | 77.25
NE175 | 83.17 | 77.63
NE179 | 82.25 | 76.77
NE181 | 82.25 | 76.77
NE182 | 82.76 | 77.25
NH001 | 109.63 | 102.31
NH002 | 116.47 | 108.70
NH003 | 113.52 | 105.96
NH004 | 113.52 | 105.96
NH005 | 125.05 | 116.71
NH006 | 113.52 | 105.96
NH007 | 98.50 | 91.93
NH008 | 113.52 | 105.96
NH009 | 101.68 | 94.89
NH010 | 116.86 | 109.07
NH011 | 89.64 | 83.67
NH012 | 95.49 | 89.13
NH013 | 113.52 | 105.96
NH014 | 113.52 | 105.96
NH015 | 89.64 | 83.67
NH016 | 89.64 | 83.67
NH022 | 141.00 | 131.61
NH888 | 116.47 | 108.70
NH901 | 109.63 | 102.31
NJ002 | 126.77 | 118.30
NJ003 | 126.77 | 118.30
NJ004 | 108.20 | 100.99
NJ006 | 129.82 | 121.18
NJ007 | 127.09 | 118.62
NJ008 | 127.09 | 118.62
NJ009 | 108.20 | 100.99
NJ010 | 108.11 | 100.91
NJ011 | 129.82 | 121.18
NJ012 | 108.20 | 100.99
NJ013 | 129.82 | 121.18
NJ014 | 107.20 | 100.07
NJ015 | 108.20 | 100.99
NJ021 | 129.82 | 121.18
NJ022 | 129.82 | 121.18
NJ023 | 126.77 | 118.30
NJ025 | 126.77 | 118.30
NJ026 | 108.20 | 100.99
NJ030 | 108.20 | 100.99
NJ032 | 126.77 | 118.30
NJ033 | 129.82 | 121.18
NJ035 | 129.82 | 121.18
NJ036 | 108.20 | 100.99
NJ037 | 126.77 | 118.30
NJ039 | 126.77 | 118.30
NJ042 | 129.82 | 121.18
NJ043 | 129.82 | 121.18
NJ044 | 129.82 | 121.18
NJ046 | 127.09 | 118.62
NJ047 | 129.82 | 121.18
NJ048 | 127.09 | 118.62
NJ049 | 103.06 | 96.18
NJ050 | 126.77 | 118.30
NJ051 | 108.11 | 100.91
NJ052 | 126.77 | 118.30
NJ054 | 127.09 | 118.62
NJ055 | 129.82 | 121.18
NJ056 | 127.09 | 118.62
NJ058 | 108.11 | 100.91
NJ059 | 107.20 | 100.07
NJ060 | 127.09 | 118.62
NJ061 | 103.06 | 96.18
NJ063 | 103.06 | 96.18
NJ065 | 127.09 | 118.62
NJ066 | 126.77 | 118.30
NJ067 | 129.82 | 121.18
NJ068 | 126.77 | 118.30
NJ070 | 129.82 | 121.18
NJ071 | 129.82 | 121.18
NJ073 | 108.11 | 100.91
NJ074 | 108.11 | 100.91
NJ075 | 129.82 | 121.18
NJ077 | 108.20 | 100.99
NJ081 | 127.09 | 118.62
NJ083 | 108.20 | 100.99
NJ084 | 129.82 | 121.18
NJ086 | 126.77 | 118.30
NJ088 | 126.77 | 118.30
NJ089 | 129.82 | 121.18
NJ090 | 129.82 | 121.18
NJ092 | 126.77 | 118.30
NJ095 | 127.09 | 118.62
NJ097 | 129.82 | 121.18
NJ099 | 126.77 | 118.30
NJ102 | 126.77 | 118.30
NJ105 | 126.77 | 118.30
NJ106 | 129.82 | 121.18
NJ108 | 126.77 | 118.30
NJ109 | 126.77 | 118.30
NJ110 | 129.82 | 121.18
NJ112 | 129.82 | 121.18
NJ113 | 126.77 | 118.30
NJ114 | 129.82 | 121.18
NJ118 | 108.11 | 100.91
NJ204 | 108.11 | 100.91
NJ212 | 124.55 | 116.25
NJ214 | 127.09 | 118.62
NJ880 | 127.09 | 118.62
NJ881 | 129.82 | 121.18
NJ882 | 126.77 | 118.30
NJ912 | 126.77 | 118.30
NM001 | 102.78 | 95.93
NM002 | 77.37 | 72.21
NM003 | 81.57 | 76.13
NM006 | 99.98 | 93.30
NM009 | 121.63 | 113.51
NM020 | 78.28 | 73.05
NM039 | 77.37 | 72.21
NM050 | 121.63 | 113.51
NM057 | 102.78 | 95.93
NM061 | 77.37 | 72.21
NM063 | 78.28 | 73.05
NM066 | 101.15 | 94.39
NM067 | 77.37 | 72.21
NM077 | 102.78 | 95.93
NM088 | 82.50 | 77.01
NV001 | 102.84 | 95.99
NV018 | 113.12 | 105.59
NV905 | 102.84 | 95.99
NY001 | 93.57 | 87.34
NY002 | 87.46 | 81.64
NY003 | 145.66 | 135.96
NY005 | 126.62 | 118.16
NY006 | 85.67 | 79.97
NY009 | 101.69 | 94.91
NY012 | 101.69 | 94.91
NY015 | 101.69 | 94.91
NY016 | 88.73 | 82.82
NY017 | 73.20 | 68.32
NY018 | 77.60 | 72.43
NY019 | 85.67 | 79.97
NY020 | 101.69 | 94.91
NY021 | 84.51 | 78.88
NY022 | 101.69 | 94.91
NY023 | 145.66 | 135.96
NY025 | 101.69 | 94.91
NY027 | 93.57 | 87.34
NY028 | 101.69 | 94.91
NY033 | 101.69 | 94.91
NY034 | 85.67 | 79.97
NY035 | 145.66 | 135.96
NY038 | 145.66 | 135.96
NY041 | 107.05 | 99.91
NY042 | 145.66 | 135.96
NY044 | 107.05 | 99.91
NY045 | 114.52 | 106.88
NY048 | 69.43 | 64.80
NY049 | 130.14 | 121.47
NY050 | 145.66 | 135.96
NY051 | 130.14 | 121.47
NY054 | 100.01 | 93.35
NY057 | 145.66 | 135.96
NY059 | 85.67 | 79.97
NY060 | 88.93 | 83.01
NY061 | 80.16 | 74.82
NY062 | 130.14 | 121.47
NY065 | 81.21 | 75.80
NY066 | 81.83 | 76.39
NY067 | 77.46 | 72.28
NY068 | 75.88 | 70.82
NY070 | 87.46 | 81.64
NY071 | 90.74 | 84.68
NY077 | 145.66 | 135.96
NY079 | 96.27 | 89.86
NY084 | 126.62 | 118.16
NY085 | 145.66 | 135.96
NY086 | 145.66 | 135.96
NY087 | 74.63 | 69.64
NY088 | 145.66 | 135.96
NY089 | 107.05 | 99.91
NY091 | 87.46 | 81.64
NY094 | 145.66 | 135.96
NY098 | 85.67 | 79.97
NY102 | 93.57 | 87.34
NY103 | 114.52 | 106.88
NY107 | 93.57 | 87.34
NY109 | 85.67 | 79.97
NY110 | 126.62 | 118.16
NY113 | 145.66 | 135.96
NY114 | 126.62 | 118.16
NY121 | 145.66 | 135.96
NY123 | 145.66 | 135.96
NY125 | 130.14 | 121.47
NY127 | 145.66 | 135.96
NY128 | 145.66 | 135.96
NY130 | 145.66 | 135.96
NY132 | 145.66 | 135.96
NY134 | 130.14 | 121.47
NY137 | 130.14 | 121.47
NY138 | 126.62 | 118.16
NY141 | 145.66 | 135.96
NY146 | 145.66 | 135.96
NY148 | 126.62 | 118.16
NY149 | 145.66 | 135.96
NY152 | 145.66 | 135.96
NY154 | 145.66 | 135.96
NY158 | 130.14 | 121.47
NY159 | 145.66 | 135.96
NY160 | 126.62 | 118.16
NY165 | 145.66 | 135.96
NY402 | 90.36 | 84.32
NY403 | 69.12 | 64.51
NY404 | 87.46 | 81.64
NY405 | 87.46 | 81.64
NY406 | 107.05 | 99.91
NY408 | 101.69 | 94.91
NY409 | 87.46 | 81.64
NY413 | 88.93 | 83.01
NY416 | 101.69 | 94.91
NY417 | 85.67 | 79.97
NY421 | 101.69 | 94.91
NY422 | 101.69 | 94.91
NY424 | 101.69 | 94.91
NY427 | 101.69 | 94.91
NY428 | 101.69 | 94.91
NY430 | 101.69 | 94.91
NY431 | 101.69 | 94.91
NY433 | 69.43 | 64.80
NY443 | 85.67 | 79.97
NY447 | 101.69 | 94.91
NY449 | 87.46 | 81.64
NY501 | 101.69 | 94.91
NY503 | 101.69 | 94.91
NY504 | 93.57 | 87.34
NY505 | 88.73 | 82.82
NY512 | 101.69 | 94.91
NY513 | 101.69 | 94.91
NY516 | 101.69 | 94.91
NY519 | 101.69 | 94.91
NY521 | 93.57 | 87.34
NY527 | 93.57 | 87.34
NY529 | 114.52 | 106.88
NY530 | 88.93 | 83.01
NY532 | 101.69 | 94.91
NY534 | 85.67 | 79.97
NY535 | 101.69 | 94.91
NY538 | 101.69 | 94.91
NY541 | 75.88 | 70.82
NY552 | 85.67 | 79.97
NY557 | 101.69 | 94.91
NY561 | 101.69 | 94.91
NY562 | 101.69 | 94.91
NY564 | 101.69 | 94.91
NY630 | 101.69 | 94.91
NY888 | 145.66 | 135.96
NY889 | 73.20 | 68.32
NY891 | 145.66 | 135.96
NY895 | 145.66 | 135.96
NY904 | 126.62 | 118.16
OH001 | 82.35 | 76.85
OH002 | 74.79 | 69.79
OH003 | 86.82 | 81.02
OH004 | 84.07 | 78.45
OH005 | 76.69 | 71.58
OH006 | 86.29 | 80.54
OH007 | 85.40 | 79.71
OH008 | 74.79 | 69.79
OH009 | 70.99 | 66.26
OH010 | 70.99 | 66.26
OH012 | 86.82 | 81.02
OH014 | 75.29 | 70.27
OH015 | 84.07 | 78.45
OH016 | 73.57 | 68.67
OH018 | 73.57 | 68.67
OH019 | 72.27 | 67.46
OH020 | 70.99 | 66.26
OH021 | 76.69 | 71.58
OH022 | 76.69 | 71.58
OH024 | 70.99 | 66.26
OH025 | 86.82 | 81.02
OH026 | 72.16 | 67.34
OH027 | 86.82 | 81.02
OH028 | 75.59 | 70.55
OH029 | 83.77 | 78.18
OH030 | 70.99 | 66.26
OH031 | 85.40 | 79.71
OH032 | 72.19 | 67.38
OH033 | 70.99 | 66.26
OH034 | 72.19 | 67.38
OH035 | 70.99 | 66.26
OH036 | 71.32 | 66.57
OH037 | 70.99 | 66.26
OH038 | 84.07 | 78.45
OH039 | 70.99 | 66.26
OH040 | 70.99 | 66.26
OH041 | 70.99 | 66.26
OH042 | 86.82 | 81.02
OH043 | 82.35 | 76.85
OH044 | 74.79 | 69.79
OH045 | 70.99 | 66.26
OH046 | 70.99 | 66.26
OH047 | 70.99 | 66.26
OH049 | 84.07 | 78.45
OH050 | 70.99 | 66.26
OH053 | 70.99 | 66.26
OH054 | 73.97 | 69.04
OH056 | 70.99 | 66.26
OH058 | 70.99 | 66.26
OH059 | 82.35 | 76.85
OH060 | 70.99 | 66.26
OH061 | 72.63 | 67.78
OH062 | 76.69 | 71.58
OH063 | 70.99 | 66.26
OH066 | 70.99 | 66.26
OH067 | 70.99 | 66.26
OH069 | 70.99 | 66.26
OH070 | 82.35 | 76.85
OH071 | 86.29 | 80.54
OH072 | 70.99 | 66.26
OH073 | 86.82 | 81.02
OH074 | 72.98 | 68.11
OH075 | 70.99 | 66.26
OH076 | 70.99 | 66.26
OH077 | 70.99 | 66.26
OH078 | 70.99 | 66.26
OH079 | 82.35 | 76.85
OH080 | 72.72 | 67.86
OH081 | 73.57 | 68.67
OH082 | 71.17 | 66.41
OH083 | 82.35 | 76.85
OH085 | 86.29 | 80.54
OH086 | 70.99 | 66.26
OH882 | 86.82 | 81.02
OK002 | 81.06 | 75.66
OK005 | 78.85 | 73.59
OK006 | 78.72 | 73.47
OK024 | 78.72 | 73.47
OK027 | 78.72 | 73.47
OK032 | 78.72 | 73.47
OK033 | 78.85 | 73.59
OK044 | 78.72 | 73.47
OK062 | 78.72 | 73.47
OK067 | 78.72 | 73.47
OK073 | 78.85 | 73.59
OK095 | 80.92 | 75.53
OK096 | 78.72 | 73.47
OK099 | 78.72 | 73.47
OK111 | 78.72 | 73.47
OK118 | 78.72 | 73.47
OK139 | 81.06 | 75.66
OK142 | 78.85 | 73.59
OK146 | 78.72 | 73.47
OK148 | 80.92 | 75.53
OK901 | 81.06 | 75.66
OR001 | 107.45 | 100.27
OR002 | 107.45 | 100.27
OR003 | 108.03 | 100.84
OR005 | 100.54 | 93.85
OR006 | 123.48 | 115.25
OR007 | 103.36 | 96.47
OR008 | 115.36 | 107.67
OR011 | 115.36 | 107.67
OR014 | 115.36 | 107.67
OR015 | 122.67 | 114.49
OR016 | 107.45 | 100.27
OR017 | 98.67 | 92.10
OR019 | 109.07 | 101.79
OR020 | 108.03 | 100.84
OR022 | 107.45 | 100.27
OR026 | 109.35 | 102.06
OR027 | 98.67 | 92.10
OR028 | 107.45 | 100.27
OR031 | 111.76 | 104.32
OR032 | 103.36 | 96.47
OR034 | 118.61 | 110.70
PA001 | 75.45 | 70.42
PA002 | 108.11 | 100.91
PA003 | 73.14 | 68.27
PA004 | 92.08 | 85.93
PA005 | 75.45 | 70.42
PA006 | 75.45 | 70.42
PA007 | 108.11 | 100.91
PA008 | 94.23 | 87.95
PA009 | 89.79 | 83.80
PA010 | 75.45 | 70.42
PA011 | 92.08 | 85.93
PA012 | 108.11 | 100.91
PA013 | 91.60 | 85.49
PA014 | 75.45 | 70.42
PA015 | 75.45 | 70.42
PA016 | 80.29 | 74.93
PA017 | 75.45 | 70.42
PA018 | 75.45 | 70.42
PA019 | 77.43 | 72.27
PA020 | 85.01 | 79.34
PA021 | 77.43 | 72.27
PA022 | 86.50 | 80.72
PA023 | 108.11 | 100.91
PA024 | 92.08 | 85.93
PA026 | 73.71 | 68.79
PA027 | 69.86 | 65.19
PA028 | 98.20 | 91.66
PA029 | 75.47 | 70.44
PA030 | 73.14 | 68.27
PA031 | 79.73 | 74.42
PA032 | 76.95 | 71.81
PA033 | 73.71 | 68.79
PA034 | 82.27 | 76.77
PA035 | 94.23 | 87.95
PA036 | 95.70 | 89.33
PA037 | 80.29 | 74.93
PA038 | 73.14 | 68.27
PA039 | 88.63 | 82.72
PA041 | 73.54 | 68.64
PA042 | 73.14 | 68.27
PA043 | 73.14 | 68.27
PA044 | 73.14 | 68.27
PA045 | 74.35 | 69.39
PA046 | 108.11 | 100.91
PA047 | 73.14 | 68.27
PA048 | 86.39 | 80.63
PA050 | 71.76 | 66.99
PA051 | 108.11 | 100.91
PA052 | 94.23 | 87.95
PA053 | 74.35 | 69.39
PA054 | 72.75 | 67.89
PA055 | 74.35 | 69.39
PA056 | 71.14 | 66.39
PA057 | 73.14 | 68.27
PA058 | 73.71 | 68.79
PA059 | 71.14 | 66.39
PA060 | 74.35 | 69.39
PA061 | 74.35 | 69.39
PA063 | 74.35 | 69.39
PA064 | 71.76 | 66.99
PA065 | 74.35 | 69.39
PA067 | 92.08 | 85.93
PA068 | 71.76 | 66.99
PA069 | 79.73 | 74.42
PA071 | 89.79 | 83.80
PA073 | 73.14 | 68.27
PA074 | 71.76 | 66.99
PA075 | 94.23 | 87.95
PA076 | 92.08 | 85.93
PA077 | 72.75 | 67.89
PA078 | 119.36 | 111.41
PA079 | 73.71 | 68.79
PA080 | 72.75 | 67.89
PA081 | 92.08 | 85.93
PA082 | 84.14 | 78.53
PA083 | 73.78 | 68.86
PA085 | 69.86 | 65.19
PA086 | 71.14 | 66.39
PA087 | 91.60 | 85.49
PA088 | 102.64 | 95.79
PA090 | 95.70 | 89.33
PA091 | 87.25 | 81.43
PA092 | 71.94 | 67.14
RI001 | 140.42 | 131.07
RI002 | 140.42 | 131.07
RI003 | 140.42 | 131.07
RI004 | 140.42 | 131.07
RI005 | 125.73 | 117.34
RI006 | 140.42 | 131.07
RI007 | 140.42 | 131.07
RI008 | 114.44 | 106.81
RI009 | 140.42 | 131.07
RI010 | 140.42 | 131.07
RI011 | 140.42 | 131.07
RI012 | 140.42 | 131.07
RI014 | 140.42 | 131.07
RI015 | 140.42 | 131.07
RI016 | 140.42 | 131.07
RI017 | 140.42 | 131.07
RI018 | 140.42 | 131.07
RI019 | 140.42 | 131.07
RI020 | 140.42 | 131.07
RI022 | 140.42 | 131.07
RI024 | 140.42 | 131.07
RI026 | 140.42 | 131.07
RI027 | 140.42 | 131.07
RI028 | 140.42 | 131.07
RI029 | 140.42 | 131.07
RI901 | 140.42 | 131.07
RQ005 | 88.34 | 82.45
RQ006 | 88.34 | 82.45
RQ007 | 82.19 | 76.71
RQ008 | 88.34 | 82.45
RQ009 | 82.19 | 76.71
RQ010 | 82.19 | 76.71
RQ011 | 88.34 | 82.45
RQ012 | 82.19 | 76.71
RQ013 | 88.34 | 82.45
RQ014 | 88.34 | 82.45
RQ015 | 88.34 | 82.45
RQ016 | 88.34 | 82.45
RQ017 | 82.19 | 76.71
RQ018 | 82.19 | 76.71
RQ019 | 88.34 | 82.45
RQ020 | 90.26 | 84.24
RQ021 | 88.34 | 82.45
RQ022 | 88.34 | 82.45
RQ023 | 88.34 | 82.45
RQ024 | 88.34 | 82.45
RQ025 | 88.34 | 82.45
RQ026 | 82.19 | 76.71
RQ027 | 88.34 | 82.45
RQ028 | 88.34 | 82.45
RQ029 | 82.19 | 76.71
RQ030 | 82.19 | 76.71
RQ031 | 90.26 | 84.24
RQ032 | 88.34 | 82.45
RQ033 | 82.19 | 76.71
RQ034 | 88.34 | 82.45
RQ035 | 82.19 | 76.71
RQ036 | 88.34 | 82.45
RQ037 | 82.19 | 76.71
RQ038 | 88.34 | 82.45
RQ039 | 90.26 | 84.24
RQ040 | 90.26 | 84.24
RQ041 | 82.19 | 76.71
RQ042 | 82.19 | 76.71
RQ043 | 82.19 | 76.71
RQ044 | 88.34 | 82.45
RQ045 | 88.34 | 82.45
RQ046 | 82.19 | 76.71
RQ047 | 88.34 | 82.45
RQ048 | 82.19 | 76.71
RQ049 | 88.34 | 82.45
RQ050 | 88.34 | 82.45
RQ052 | 82.19 | 76.71
RQ053 | 88.34 | 82.45
RQ054 | 88.34 | 82.45
RQ055 | 88.34 | 82.45
RQ056 | 88.34 | 82.45
RQ057 | 82.19 | 76.71
RQ058 | 82.19 | 76.71
RQ059 | 82.19 | 76.71
RQ060 | 82.19 | 76.71
RQ061 | 82.19 | 76.71
RQ062 | 82.19 | 76.71
RQ063 | 88.34 | 82.45
RQ064 | 88.34 | 82.45
RQ065 | 82.19 | 76.71
RQ066 | 82.19 | 76.71
RQ067 | 82.19 | 76.71
RQ068 | 82.19 | 76.71
RQ069 | 82.19 | 76.71
RQ070 | 88.34 | 82.45
RQ071 | 82.19 | 76.71
RQ072 | 88.34 | 82.45
RQ073 | 82.19 | 76.71
RQ074 | 82.19 | 76.71
RQ075 | 88.34 | 82.45
RQ077 | 88.34 | 82.45
RQ080 | 82.19 | 76.71
RQ081 | 88.34 | 82.45
RQ082 | 88.34 | 82.45
RQ083 | 88.34 | 82.45
SC001 | 86.15 | 80.41
SC002 | 87.09 | 81.28
SC003 | 79.50 | 74.20
SC004 | 79.50 | 74.20
SC005 | 79.50 | 74.20
SC007 | 87.13 | 81.33
SC008 | 79.50 | 74.20
SC015 | 78.26 | 73.04
SC016 | 79.50 | 74.20
SC018 | 79.50 | 74.20
SC019 | 81.13 | 75.72
SC020 | 79.50 | 74.20
SC021 | 78.26 | 73.04
SC022 | 91.20 | 85.11
SC023 | 79.50 | 74.20
SC024 | 86.15 | 80.41
SC025 | 79.50 | 74.20
SC026 | 81.13 | 75.71
SC027 | 79.50 | 74.20
SC028 | 78.26 | 73.04
SC029 | 79.50 | 74.20
SC030 | 78.26 | 73.04
SC031 | 78.26 | 73.04
SC032 | 79.50 | 74.20
SC033 | 78.26 | 73.04
SC034 | 79.50 | 74.20
SC035 | 78.26 | 73.04
SC036 | 91.20 | 85.11
SC037 | 79.50 | 74.20
SC046 | 91.20 | 85.11
SC056 | 86.15 | 80.41
SC057 | 86.15 | 80.41
SC059 | 78.26 | 73.04
SC911 | 87.09 | 81.28
SD010 | 84.30 | 78.68
SD011 | 81.74 | 76.29
SD014 | 81.74 | 76.29
SD016 | 84.30 | 78.68
SD026 | 81.74 | 76.29
SD034 | 81.74 | 76.29
SD035 | 88.82 | 82.89
SD036 | 81.74 | 76.29
SD037 | 81.74 | 76.29
SD039 | 84.30 | 78.68
SD043 | 81.74 | 76.29
SD045 | 84.30 | 78.68
SD047 | 81.74 | 76.29
SD048 | 81.74 | 76.29
SD055 | 81.74 | 76.29
SD056 | 81.74 | 76.29
SD057 | 81.74 | 76.29
SD058 | 81.74 | 76.29
SD059 | 81.74 | 76.29
TN001 | 80.99 | 75.59
TN002 | 76.56 | 71.45
TN003 | 76.56 | 71.45
TN004 | 82.32 | 76.83
TN005 | 89.75 | 83.77
TN006 | 76.56 | 71.45
TN007 | 76.56 | 71.45
TN012 | 76.56 | 71.45
TN013 | 73.99 | 69.06
TN020 | 89.75 | 83.77
TN024 | 73.99 | 69.06
TN026 | 73.99 | 69.06
TN035 | 89.75 | 83.77
TN038 | 76.56 | 71.45
TN042 | 73.99 | 69.06
TN054 | 76.56 | 71.45
TN062 | 73.99 | 69.06
TN065 | 76.56 | 71.45
TN066 | 76.56 | 71.45
TN076 | 76.56 | 71.45
TN079 | 89.75 | 83.77
TN088 | 76.56 | 71.45
TN113 | 76.56 | 71.45
TN117 | 82.32 | 76.83
TN903 | 89.75 | 83.77
TQ901 | 140.70 | 131.33
TX001 | 100.65 | 93.95
TX003 | 85.52 | 79.80
TX004 | 96.17 | 89.76
TX005 | 91.30 | 85.23
TX006 | 88.48 | 82.60
TX007 | 78.45 | 73.22
TX008 | 90.22 | 84.19
TX009 | 103.21 | 96.34
TX010 | 77.37 | 72.21
TX011 | 77.37 | 72.21
TX012 | 91.30 | 85.23
TX014 | 77.37 | 72.21
TX016 | 74.54 | 69.57
TX017 | 91.30 | 85.23
TX018 | 77.37 | 72.21
TX019 | 74.54 | 69.57
TX021 | 74.54 | 69.57
TX023 | 88.41 | 82.50
TX025 | 78.45 | 73.22
TX027 | 103.21 | 96.34
TX028 | 77.56 | 72.38
TX029 | 77.56 | 72.38
TX030 | 77.37 | 72.21
TX031 | 100.65 | 93.95
TX032 | 91.30 | 85.23
TX034 | 88.41 | 82.50
TX035 | 74.73 | 69.73
TX037 | 88.41 | 82.50
TX039 | 74.54 | 69.57
TX042 | 74.54 | 69.57
TX044 | 74.54 | 69.57
TX046 | 77.56 | 72.38
TX048 | 74.54 | 69.57
TX049 | 74.54 | 69.57
TX051 | 77.56 | 72.38
TX062 | 77.56 | 72.38
TX064 | 77.56 | 72.38
TX065 | 78.45 | 73.22
TX072 | 74.54 | 69.57
TX073 | 77.56 | 72.38
TX075 | 74.54 | 69.57
TX085 | 107.21 | 100.05
TX087 | 100.65 | 93.95
TX095 | 103.21 | 96.34
TX096 | 74.54 | 69.57
TX105 | 74.54 | 69.57
TX111 | 79.18 | 73.90
TX114 | 74.54 | 69.57
TX128 | 103.21 | 96.34
TX134 | 74.54 | 69.57
TX137 | 77.37 | 72.21
TX147 | 74.54 | 69.57
TX152 | 74.54 | 69.57
TX158 | 77.37 | 72.21
TX163 | 90.22 | 84.19
TX164 | 90.22 | 84.19
TX173 | 78.45 | 73.22
TX174 | 90.22 | 84.19
TX175 | 74.54 | 69.57
TX177 | 77.56 | 72.38
TX178 | 74.54 | 69.57
TX183 | 74.54 | 69.57
TX189 | 74.54 | 69.57
TX193 | 88.48 | 82.60
TX197 | 77.37 | 72.21
TX201 | 74.54 | 69.57
TX202 | 77.56 | 72.38
TX206 | 78.45 | 73.22
TX208 | 77.37 | 72.21
TX210 | 77.37 | 72.21
TX217 | 74.54 | 69.57
TX224 | 77.56 | 72.38
TX236 | 77.37 | 72.21
TX242 | 74.54 | 69.57
TX257 | 77.37 | 72.21
TX259 | 100.65 | 93.95
TX264 | 100.65 | 93.95
TX266 | 100.65 | 93.95
TX272 | 74.54 | 69.57
TX284 | 74.54 | 69.57
TX298 | 74.54 | 69.57
TX300 | 74.54 | 69.57
TX302 | 90.22 | 84.19
TX303 | 88.48 | 82.60
TX309 | 74.54 | 69.57
TX313 | 90.22 | 84.19
TX322 | 100.65 | 93.95
TX327 | 77.37 | 72.21
TX330 | 74.54 | 69.57
TX332 | 74.54 | 69.57
TX335 | 74.54 | 69.57
TX341 | 77.37 | 72.21
TX343 | 88.48 | 82.60
TX349 | 96.17 | 89.76
TX350 | 88.48 | 82.60
TX358 | 74.54 | 69.57
TX376 | 74.54 | 69.57
TX377 | 100.65 | 93.95
TX378 | 74.73 | 69.73
TX381 | 74.54 | 69.57
TX392 | 103.21 | 96.34
TX395 | 77.01 | 71.87
TX396 | 74.54 | 69.57
TX397 | 74.54 | 69.57
TX421 | 74.54 | 69.57
TX431 | 96.17 | 89.76
TX432 | 85.52 | 79.80
TX433 | 96.17 | 89.76
TX434 | 103.21 | 96.34
TX435 | 103.21 | 96.34
TX436 | 103.21 | 96.34
TX439 | 85.52 | 79.80
TX440 | 91.30 | 85.23
TX441 | 91.30 | 85.23
TX444 | 77.37 | 72.21
TX445 | 77.56 | 72.38
TX447 | 77.56 | 72.38
TX448 | 77.56 | 72.38
TX449 | 74.54 | 69.57
TX452 | 88.48 | 82.60
TX454 | 74.54 | 69.57
TX455 | 99.42 | 92.79
TX456 | 88.21 | 82.33
TX457 | 83.33 | 77.77
TX458 | 77.37 | 72.21
TX459 | 86.77 | 80.98
TX461 | 79.30 | 74.03
TX470 | 77.37 | 72.21
TX472 | 77.37 | 72.21
TX480 | 100.65 | 93.95
TX481 | 77.37 | 72.21
TX482 | 77.37 | 72.21
TX483 | 91.30 | 85.23
TX484 | 98.60 | 92.02
TX485 | 74.54 | 69.57
TX486 | 75.77 | 70.71
TX488 | 74.54 | 69.57
TX493 | 103.21 | 96.34
TX495 | 96.17 | 89.76
TX497 | 77.56 | 72.38
TX498 | 79.18 | 73.90
TX499 | 77.37 | 72.21
TX500 | 74.54 | 69.57
TX505 | 91.30 | 85.23
TX509 | 78.45 | 73.22
TX511 | 74.54 | 69.57
TX512 | 74.54 | 69.57
TX514 | 77.37 | 72.21
TX516 | 74.54 | 69.57
TX519 | 74.54 | 69.57
TX522 | 103.21 | 96.34
TX523 | 79.18 | 73.90
TX526 | 103.40 | 96.51
TX534 | 99.42 | 92.79
TX535 | 74.54 | 69.57
TX537 | 77.37 | 72.21
TX542 | 77.37 | 72.21
TX559 | 103.21 | 96.34
TX560 | 91.30 | 85.23
TX901 | 91.30 | 85.23
UT002 | 93.48 | 87.25
UT003 | 93.48 | 87.25
UT004 | 93.48 | 87.25
UT006 | 95.97 | 89.56
UT007 | 93.48 | 87.25
UT009 | 93.48 | 87.25
UT011 | 93.48 | 87.25
UT014 | 109.16 | 101.87
UT016 | 109.16 | 101.87
UT020 | 93.48 | 87.25
UT021 | 96.27 | 89.86
UT022 | 93.48 | 87.25
UT025 | 93.48 | 87.25
UT026 | 93.48 | 87.25
UT028 | 109.16 | 101.87
UT029 | 109.16 | 101.87
UT030 | 93.48 | 87.25
UT031 | 95.97 | 89.56
VA001 | 94.56 | 88.26
VA002 | 76.56 | 71.45
VA003 | 94.56 | 88.26
VA004 | 139.43 | 130.14
VA005 | 85.78 | 80.05
VA006 | 94.56 | 88.26
VA007 | 85.78 | 80.05
VA010 | 74.09 | 69.15
VA011 | 75.49 | 70.45
VA012 | 94.56 | 88.26
VA013 | 76.34 | 71.25
VA014 | 76.34 | 71.25
VA015 | 69.70 | 65.05
VA016 | 95.92 | 89.52
VA017 | 94.56 | 88.26
VA018 | 69.70 | 65.05
VA019 | 139.43 | 130.14
VA020 | 85.78 | 80.05
VA021 | 69.70 | 65.05
VA022 | 69.70 | 65.05
VA023 | 69.70 | 65.05
VA024 | 69.70 | 65.05
VA025 | 94.56 | 88.26
VA028 | 139.43 | 130.14
VA030 | 69.70 | 65.05
VA031 | 76.56 | 71.45
VA032 | 76.56 | 71.45
VA034 | 69.70 | 65.05
VA035 | 139.43 | 130.14
VA036 | 95.92 | 89.52
VA037 | 69.87 | 65.21
VA038 | 69.70 | 65.05
VA039 | 94.56 | 88.26
VA040 | 69.70 | 65.05
VA041 | 94.56 | 88.26
VA042 | 76.56 | 71.45
VA044 | 70.54 | 65.83
VA046 | 139.43 | 130.14
VA901 | 85.78 | 80.05
VQ901 | 121.79 | 113.68
VT001 | 116.52 | 108.75
VT002 | 99.28 | 92.67
VT003 | 102.70 | 95.85
VT004 | 101.67 | 94.89
VT005 | 95.19 | 88.84
VT006 | 116.52 | 108.75
VT008 | 95.19 | 88.84
VT009 | 96.21 | 89.80
VT901 | 116.52 | 108.75
WA001 | 132.29 | 123.44
WA002 | 132.29 | 123.44
WA003 | 116.84 | 109.05
WA004 | 109.88 | 102.54
WA005 | 112.33 | 104.86
WA006 | 132.29 | 123.44
WA007 | 90.07 | 84.06
WA008 | 107.45 | 100.27
WA011 | 132.29 | 123.44
WA012 | 102.05 | 95.23
WA013 | 101.96 | 95.15
WA014 | 84.72 | 79.08
WA017 | 86.17 | 80.43
WA018 | 109.88 | 102.54
WA020 | 90.07 | 84.06
WA021 | 102.05 | 95.23
WA024 | 129.09 | 120.46
WA025 | 125.58 | 117.19
WA036 | 116.84 | 109.05
WA039 | 132.29 | 123.44
WA042 | 106.10 | 99.02
WA049 | 120.71 | 112.65
WA054 | 112.33 | 104.86
WA055 | 101.61 | 94.85
WA057 | 110.31 | 102.96
WA061 | 114.81 | 107.16
WA064 | 104.48 | 97.50
WA071 | 92.85 | 86.65
WI001 | 80.67 | 75.29
WI002 | 76.17 | 71.10
WI003 | 84.78 | 79.13
WI006 | 74.97 | 69.97
WI011 | 66.19 | 61.77
WI031 | 65.11 | 60.77
WI043 | 65.11 | 60.77
WI045 | 65.11 | 60.77
WI047 | 65.11 | 60.77
WI048 | 65.11 | 60.77
WI060 | 109.06 | 101.79
WI064 | 70.68 | 65.97
WI065 | 65.11 | 60.77
WI068 | 66.19 | 61.77
WI069 | 66.19 | 61.77
WI070 | 65.11 | 60.77
WI083 | 76.17 | 71.10
WI085 | 65.11 | 60.77
WI091 | 65.11 | 60.77
WI096 | 65.11 | 60.77
WI127 | 65.11 | 60.77
WI131 | 65.11 | 60.77
WI142 | 76.17 | 71.10
WI160 | 65.11 | 60.77
WI166 | 65.11 | 60.77
WI183 | 69.59 | 64.94
WI186 | 65.11 | 60.77
WI193 | 65.11 | 60.77
WI195 | 78.77 | 73.51
WI201 | 76.17 | 71.10
WI203 | 70.68 | 65.97
WI204 | 66.19 | 61.77
WI205 | 65.11 | 60.77
WI206 | 65.11 | 60.77
WI208 | 65.11 | 60.77
WI213 | 65.11 | 60.77
WI214 | 84.78 | 79.13
WI218 | 76.17 | 71.10
WI219 | 70.68 | 65.97
WI221 | 65.11 | 60.77
WI222 | 65.11 | 60.77
WI231 | 65.11 | 60.77
WI233 | 65.11 | 60.77
WI237 | 66.33 | 61.91
WI241 | 65.11 | 60.77
WI244 | 71.48 | 66.72
WI245 | 65.11 | 60.77
WI246 | 65.11 | 60.77
WI248 | 65.11 | 60.77
WI256 | 65.11 | 60.77
WI901 | 76.17 | 71.10
WV001 | 87.67 | 81.83
WV003 | 70.99 | 66.26
WV004 | 72.27 | 67.46
WV005 | 69.38 | 64.75
WV006 | 73.07 | 68.19
WV009 | 73.84 | 68.92
WV010 | 77.27 | 72.12
WV015 | 69.38 | 64.75
WV016 | 75.29 | 70.27
WV017 | 66.25 | 61.83
WV018 | 66.25 | 61.83
WV027 | 67.63 | 63.13
WV034 | 66.25 | 61.83
WV035 | 68.79 | 64.21
WV037 | 72.27 | 67.46
WV039 | 69.38 | 64.75
WV042 | 69.38 | 64.75
WV045 | 66.25 | 61.83
WY002 | 95.48 | 89.12
WY003 | 80.25 | 74.90
WY004 | 115.04 | 107.38
WY013 | 80.25 | 74.90

[FR Doc. 2024-16849 Filed 7-31-24; 8:45 am]

BILLING CODE 4210-67-P